DEPARTMENT OF HOMELAND SECURITY

Assistance to Firefighters Program Office, Office of Grants and Training, Preparedness Directorate for Comments on a New Information Collection Request (Application for Staffing for Adequate Fire and Emergency Response Grants)

AGENCY: Office of Grants and Training, Preparedness Directorate, Department of Homeland Security.

ACTION: Notice; 60-day notice request for comments.

SUMMARY: The Department of Homeland Security (DHS) invites the general public and other federal agencies the opportunity to comment on information collection request (ICR) for the application for SAFER grants. As required by the Paperwork Reduction Act of 1995, (Pub. L. 104-13, 44 U.S.C. chapter 35) as amended by the Clinger-Cohen Act (Pub. L. 104-106), DHS is soliciting comments for the approved information collection request.

DATES: Written comments should be received on or before December 26, 2006 to be assured consideration.

ADDRESSES: Assistance to Firefighters Program Office, Attn: Tom Harrington, Deputy Director, Assistance to Firefighters Program Office, Office of Grants and Training, Preparedness Directorate, U.S. Department of Homeland Security; Attn: OMB Desk Officer for Homeland Security, Office of Management and Budget, Room 10235, Washington, DC 20503.

FOR FURTHER INFORMATION CONTACT: Interested persons are invited to submit written comments on the proposed information collection to Tom Harrington, Deputy Director, Grants Program Office, Office for Grants and Training, Preparedness Secretariat, Department of Homeland Security, 800 K Street, NW., Fifth Floor Suites, Washington, DC 20531, telephone: 202-786-9791, (this is not a toll free number) or e-mail: tom.harrington@dhs.gov.

SUPPLEMENTARY INFORMATION: Direct all written comments to both the Department of Homeland Security and the Office of Information and Regulatory Affairs at the above addresses. A copy of this ICR, with applicable supporting documentation, may be obtained by calling the Paperwork Reduction Act Contact listed above. The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Department of Homeland Security, Preparedness Directorate, Office of Grants and Training, Assistance to Firefighters Program Office.

Title: Application for SAFER grants.

OMB Number: 1670-NEW.

Frequency: Annual.

Affected Public: Fire departments; not-for-profit institutions; local or tribal government.

Estimated Number of Respondents: 5,000 applicants; 300 awardees.

Estimated Time per Respondent: 13 for application; 18 hours for administration.

Total Burden Hours: 70,000 hours for applications; 7,200 hours for grantee administration.

Total Burden Cost: Application phase: $1,050,000 annually (70,000 hours @ $15.00 per hour); administration phase: $108,000 (7,200 hours @ $15.00 per hour).

Description: Information sought under this submission will comprise the grant application for the Staffing for Adequate Fire and Emergency Response (SAFER) grant program. This submission is necessary in order for Department of Homeland Security (DHS) to effectively implement a competitive grant program.

Charlie Church,
Chief Information Officer.

[FR Doc. E6-17807 Filed 10-23-06; 8:45 am]

BILLING CODE 4410-10-P